Title 3—

The President

Proclamation 8331 of December 23, 2008

To Implement the Dominican Republic-Central America- United States Free Trade Agreement With Respect to Costa Rica and for Other Purposes

By the President of the United States of America

A Proclamation

1. On August 5, 2004, the United States entered into the Dominican Republic-Central America-United States Free Trade Agreement (the “Agreement”) with Costa Rica, the Dominican Republic, El Salvador, Guatemala, Honduras, and Nicaragua (the “Agreement countries”). The Agreement was approved by the Congress in section 101(a) of the Dominican Republic-Central America-United States Free Trade Agreement Implementation Act (the “Act”) (19 U.S.C. 4011).

2. The Parties to the Agreement entered into an amendment of the Agreement on July 27, August 6, and August 14, 2007 (the “Amendment”). The Amendment provides for temporary duty-free treatment for certain goods of Costa Rica. The terms of the Amendment with respect to Costa Rica are contained in letters of understanding described in section 1634(b)(2) of the Pension Protection Act of 2006 (Public Law 109-280, 120 Stat. 780).

3. Section 201(a)(1) of the Act (19 U.S.C. 4031(a)(1)) authorizes the President to proclaim such modifications or continuation of any duty, such continuation of duty free or excise treatment, or such additional duties, as the President determines to be necessary or appropriate to carry out or apply Articles 3.3 and 3.27, and Annexes 3.3 (including the schedule of United States duty reductions with respect to originating goods) and 3.27 of the Agreement.

4. Consistent with section 201(a)(2) of the Act (19 U.S.C. 4031(a)(2)), each Agreement country is to be removed from the enumeration of designated beneficiary developing countries eligible for the benefits of the Generalized System of Preferences (GSP) on the date the Agreement enters into force with respect to that country.

5. Consistent with section 201(a)(3) of the Act (19 U.S.C. 4031(a)(3)), each Agreement country is to be removed from the enumeration of designated beneficiary countries under the Caribbean Basin Economic Recovery Act (CBERA) (19 U.S.C. 2701 et seq.) on the date the Agreement enters into force with respect to that country, subject to the exceptions set out in section 201(a)(3)(B) of the Act (19 U.S.C. 4031(a)(3)(B)).

6. Consistent with section 213(b)(5)(D) of the CBERA (19 U.S.C. 2703(b)(5)(D)), as amended by the United States-Caribbean Basin Trade Partnership Act (CBTPA) (Public Law 106-200), each Agreement country is to be removed from the enumeration of designated CBTPA beneficiary countries on the date the Agreement enters into force with respect to that country.

7. Section 201(b) of the Act (19 U.S.C. 4031(b)) authorizes the President, subject to the consultation and layover requirements of section 104(a) of the Act (19 U.S.C. 4014(a)), to proclaim such modifications or continuation of any duty, such modifications as the United States may agree to with an Agreement country regarding the staging of any duty treatment set forth in Annex 3.3 of the Agreement, such continuation of duty-free or excise treatment, or such additional duties, as the President determines to be necessary or appropriate to maintain the general level of reciprocal and mutually advantageous concessions provided for by the Agreement. The consultation and layover requirements of section 104(a) of the Act have been satisfied with respect to providing temporary duty free treatment for certain goods of Costa Rica as set forth in the Amendment.

8. Pursuant to section 201(b) of the Act, I have determined that the modifications herein proclaimed of duties on goods of Costa Rica are necessary or appropriate to maintain the general level of reciprocal and mutually advantageous concessions with respect to Costa Rica provided for by the Agreement.

9. In Proclamation 8095 of December 29, 2006, consistent with the authority set out in section 111(b) of the Uruguay Round Agreements Act (19 U.S.C. 3521(b)), I modified the Harmonized Tariff Schedule of the United States (HTS) to implement the multilateral agreement negotiated under the auspices of the World Trade Organization to eliminate tariffs on certain pharmaceutical products and chemical intermediates. I have determined that technical corrections to the pharmaceuticals annex to the HTS are necessary to ensure that certain products receive the intended duty treatment.

10. Section 604 of the Trade Act of 1974 (the “1974 Act”) (19 U.S.C. 2483), as amended, authorizes the President to embody in the HTS the substance of relevant provisions of that Act, and of other Acts affecting import treatment, and of actions taken thereunder.

NOW, THEREFORE, I, GEORGE W. BUSH, President of the United States of America, acting under the authority vested in me by the Constitution and the laws of the United States of America, including but not limited to section 201 of the Act and section 604 of the 1974 Act, and the Act having taken effect pursuant to section 107, do proclaim that:

(1) In order to provide generally for the preferential tariff treatment being accorded to Costa Rica under the Agreement, as amended, to provide certain other treatment to originating goods for the purposes of the Agreement, to provide tariff-rate quotas with respect to certain goods, to reflect the removal of Costa Rica from the enumeration of designated beneficiary developing countries for purposes of the GSP, to reflect the removal of Costa Rica from the enumeration of designated beneficiary countries for purposes of the CBERA and the CBTPA, and to make technical and conforming changes in the general notes to the HTS, the HTS is modified as set forth in Annexes I and II of Publication 4038 of the United States International Trade Commission, entitled Modifications to the Harmonized Tariff Schedule of the United States to Implement the Dominican Republic-Central America-United States Free Trade Agreement With Respect to Costa Rica (Publication 4038), which is incorporated by reference into this proclamation.

(2) In order to make technical corrections necessary to provide the intended duty treatment to certain pharmaceutical products and chemical intermediaries, the HTS is modified as set forth in Annex III of Publication 4038.

(3) The amendments to the HTS made by paragraphs (1) and (2) of this proclamation shall be effective with respect to goods entered, or withdrawn from warehouse for consumption, on or after the relevant dates indicated in Annex I, II, or III of Publication 4038.

(4) Except as provided in paragraph (3) of this proclamation, this proclamation shall be effective with respect to goods entered, or withdrawn from warehouse for consumption, on or after January 1, 2009.

(5) Any provisions of previous proclamations and executive orders that are inconsistent with the actions taken in this proclamation are superseded to the extent of such inconsistency.

IN WITNESS WHEREOF, I have hereunto set my hand this twenty-third day of December, in the year of our Lord two thousand eight, and of the Independence of the United States of America the two hundred and thirty-third.

[FR Doc. E8-31137

Filed 12-29-08; 8:45 am]

Billing code 3195-W9-P